DEPARTMENT OF ENERGY

Federal Energy Regulatory Commission

[Docket No. EL01-10-000, et al.]

Puget Sound Energy Inc., et al. Electric Rate and Corporate Regulation Filings

October 31, 2000.

Take notice that the following filings have been made with the Commission:

[Docket No. EL01-10-000]

1. Puget Sound Energy, Inc.

Take notice that on October 26, 2000, Puget Sound Energy, Inc. (PSE), tendered for filing a Complaint against all jurisdictional sellers of energy and/or capacity at wholesale into electric energy and/or capacity markets in the Pacific Northwest, including parties to the Western Systems Power Pool Agreement (the WSPP Agreement).

In its Complaint, PSE petitions the Commission for an order capping the prices at which sellers subject to Commission jurisdiction, including sellers of energy or capacity under the WSPP Agreement, may sell capacity or energy into the Pacific Northwest's wholesale power markets. Specifically, PSE seeks an order that caps the prices for wholesale sales of energy or capacity into the Pacific Northwest at a level equal to the lowest cap on prices established, ordered, or permitted by the Commission for wholesale purchases in or wholesale sales of energy or capacity to or though markets operated by the California Independent System Operator Corporation or the California Power Exchange Corporation.

The Complaint seeks a refund effective date, to the extent any refund is called for, of sixty days after the filing of the Complaint.

Copies of this filing were served upon parties to the WSPP, and transmitted electronically to the WSPP for posting on its website (www.wspp.org) and for electronic distribution to all parties to the WSPP Agreement.

Comment date: November 16, 2000, in accordance with Standard Paragraph E at the end of this notice. Answers to the Complaint shall also be filed on or before November 16, 2000.

2. Madison Windpower, LLC

[Docket No. EG01-11-000]

Take notice that on October 25, 2000, Madison Windpower, LLC (Madison), tendered for filing information with respect to a change in facts relative to its status as an exempt wholesale generator and a demonstration that such change does not affect such status pursuant to Section 32(a) of the Public Utility Holding Company Act of 1935, as amended and Section 365.8 of the Commission's regulations.

Comment date: November 21, 2000, in accordance with Standard Paragraph E at the end of this notice. The Commission will limit its consideration of comments to those that concern the adequacy or accuracy of the application.

3. UtiliCorp United Inc.

[Docket No. ES01-4-001]

Take notice that on October 18, 2000, UtiliCorp United Inc. submitted an amendment to its application seeking a waiver of the Commission's competitive bidding and negotiated placement requirements at 18 CFR 34.2.

Comment date: November 7, 2000, in accordance with Standard Paragraph E at the end of this notice.

4. Cinergy Services, Inc.

[Docket No. ER01-233-000]

Take notice that on October 26, 2000, Cinergy Services, Inc. (Cinergy) and Continental Energy Services tendered for filing a request for cancellation of Service Agreement No. 204, under Cinergy Operating Companies, Cost-Based Power Sales Tariff—CB, FERC Electric Tariff Original Volume No. 6.

Cinergy requests an effective date of October 13, 2000.

Comment date: November 16, 2000, in accordance with Standard Paragraph E at the end of this notice.

5. Solar Turbines Incorporated

[Docket No. ER00-3400-001]

Take notice that on October 26, 2000, Solar Turbines Incorporated (Solar), tendered for filing with the Commission a Compliance filing intended to comply with the Commission's September 26, 2000 Order. That Order required Solar to file the appropriate Tariff sheets containing designations in accordance with Order 614, within thirty (30) days.

Comment date: November 16, 2000, in accordance with Standard Paragraph E at the end of this notice.

6. Arizona Public Service Company

[Docket No. ER01-31-001]

Take notice that on October 26, 2000, the Arizona Public Service Company tendered for filing proposed revisions to Arizona Public Service Company's fuel adjustment clause.

A copy of this filing has been served the all parties on the service list.

Comment date: November 16, 2000, in accordance with Standard Paragraph E at the end of this notice.

7. PJM Interconnection, L.L.C.

[Docket No. ER01-240-000]

Take notice that on October 26, 2000, PJM Interconnection, L.L.C. (PJM), tendered for filing the following executed agreements: (i) An umbrella service agreement for network integration transmission service under state required retail access programs for Sempra Energy Solutions (Sempra), (ii) an umbrella service agreement for short-term firm point-to-point transmission service for The New Power Company (New Power), (iii) an umbrella service agreement for non-firm point-to-point transmission service for New Power, and (iv) an umbrella service agreement for network integration transmission service under state required retail access programs for New Power.

Copies of this filing were served upon Sempra, New Power, and the state commissions within the PJM control area.

Comment date: November 16, 2000, in accordance with Standard Paragraph E at the end of this notice.

8. Kansas City Power & Light Company Docket No.

[Docket No. ER01-239-000]

Take notice that on October 26, 2000, Kansas City Power & Light Company (KCPL), tendered for filing a Service Agreements dated October 20, 2000 by KCPL. KCPL proposes an effective date of January 1, 2000. This Agreement provides for the rates and charges for Firm Transmission Service by KCPL for wholesale transactions.

In its filing, KCPL states that the rates included in the above-mentioned Service Agreement are KCPL's rates and charges in the compliance filing to FERC Order No. 888-A in Docket No. OA97-636-000.

Comment date: November 16, 2000, in accordance with Standard Paragraph E at the end of this notice.

9. Northwest Regional Transmission Association

[Docket No. ER01-238-000]

Take notice that on October 26, 2000, the Northwest Regional Transmission Association (NRTA), tendered for filing a First Revised Sheet No. 53 (superseding Original Sheet No. 53) of the Governing Agreement of the Northwest Regional Transmission Association (NRTA). This filing revises NRTA's filing of August 23, 2000 under Docket No. ER99-4508-001, by which NRTA submitted its entire Governing Agreement (including an index of customers) as “Northwest Regional Transmission Organization First Revised Electric Rate Schedule FERC No.1” in compliance with Order No. 614, Docket No. RM99-12-000, 90 FERC ¶ 61,352, issued March 31, 2000. The reason for filing the revised sheet is that the identification of one of NRTA's members, Citizens Power LLC, has changed because Citizens Power LLC was acquired by and merged into Edison Mission Marketing & Trading, Inc. effective as of September 1, 2000.

Comment date: November 16, 2000, in accordance with Standard Paragraph E at the end of this notice.

10. Entergy Services, Inc.

[Docket No. ER01-237-000]

Take notice that on October 25, 2000, Entergy Services, Inc., on behalf of Entergy Arkansas, Inc., tendered for filing the Seventh Amendment to the Power Coordination, Interchange and Transmission Service Agreement (PCITA) between Entergy Arkansas, Inc. and the City of Conway, dated October 12, 2000. The Amendment to the PCITA modifies Exhibit A to the PCITA by establishing a new point of delivery.

Comment date: November 16, 2000, in accordance with Standard Paragraph E at the end of this notice.

11. Arizona Public Service Company

[Docket No. ER01-234-000]

Take notice that on October 26, 2000, Arizona Public Service Company (APS), tendered for filing umbrella Service Agreements to provide Short-Term Firm and Non-Firm Point-to-Point Transmission Service to Conectiv Energy Supply, Inc., under APS' Open Access Transmission Tariff.

A copy of this filing has been served on Conectiv Energy Supply, Inc., and the Arizona Corporation Commission.

Comment date: November 16, 2000, in accordance with Standard Paragraph E at the end of this notice.

12. Cinergy Services, Inc.

[Docket No. ER01-231-000]

Take notice that on October 24, 2000, Cinergy Services, Inc. (Cinergy) and Illinova Energy Partners, Inc., tendered for filing a request for cancellation of Service Agreements No. 207, under Cinergy Operating Companies, Market-Based Power Sales Tariff—MB, FERC Electric Tariff Original Volume No. 7.

Cinergy requests an effective date of October 13, 2000.

Comment date: November 16, 2000, in accordance with Standard Paragraph E at the end of this notice.

13. Cinergy Services, Inc.

[Docket No. ER01-230-000]

Take notice that on October 26, 2000, Cinergy Services, Inc. (Cinergy) and Montaup Electric Company tendered for filing a request for cancellation of Service Agreements No. 44, under Cinergy Operating Companies, Market-Based Power Sales Tariff—MB, FERC Electric Tariff Original Volume No. 7.

Cinergy requests an effective date of October 13, 2000.

Comment date: November 16, 2000, in accordance with Standard Paragraph E at the end of this notice.

14. Cinergy Services, Inc.

[Docket No. ER01-232-000]

Take notice that on October 26, 2000, Cinergy Services, Inc. (Cinergy) and Montaup Electric Company tendered for filing a request for Cancellation of Service Agreement No. 44, under Cinergy Operating Companies, Cost-Based Power Sales Tariff—CB, FERC Electric Tariff Original Volume No. 6.

Cinergy requests an effective date of October 13, 2000.

Comment date: November 16, 2000, in accordance with Standard Paragraph E at the end of this notice.

15. Central Maine Power Company

[Docket No. ER01-228-000]

Take notice that on October 25, 2000, Central Maine Power Company (CMP), tendered for filing as an initial rate schedule pursuant to Section 35.12 of the Federal Energy Regulatory Commission's (the Commission) regulations, 18 CFR 35.12 an executed interconnection agreement between CMP and S.D. Warren Company.

The executed interconnection agreement is intended to replace and supersede the unexecuted interconnection agreement filed by CMP on March 30, 2000.

As such, CMP is requesting that the executed interconnection agreement become effective March 1, 2000.

Copies of this filing have been served upon the Commission, the Maine Public Utilities Commission, and S.D. Warren Company.

Comment date: November 16, 2000, in accordance with Standard Paragraph E at the end of this notice.

16. Florida Power & Light Company

[Docket No. ER93-465-028

Take notice that on October 25, 2000, Florida Power & Light Company (FPL), tendered for filing a refund report in the above-captioned dockets.

Comment date: November 15, 2000, in accordance with Standard Paragraph E at the end of this notice.

17. Entergy Services, Inc.

[Docket No. ER00-2854-000]

Take notice that on October 25, 2000, Entergy Services, Inc., tendered for filing revisions to its Amendment to the System Agreement filed with the Commission on June 15, 2000 in the above-referenced docket.

Comment date: November 15, 2000, in accordance with Standard Paragraph E at the end of this notice.

Standard Paragraphs

E. Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28596 Filed 11-7-00; 8:45 am]

BILLING CODE 6717-01-P